DEPARTMENT OF ENERGY

Federal Energy Regulatory Commission

Combined Notice of Filings #1

Take notice that the Commission received the following electric rate filings:

Docket Numbers: ER10-1838-013; ER10-1616-021; ER10-1967-014; ER10-1968-013; ER10-1990-013; ER10-1993-013; ER18-552-006; ER18-1821-013; ER19-2231-010; ER19-2232-010; ER22-46-009; ER22-1402-006; ER22-1404-006; ER22-2713-004; ER24-762-002.

Applicants: Elevate Renewables F7, LLC, Parkway Generation Sewaren Urban Renewal Entity LLC, Parkway Generation Operating LLC, Parkway Generation Keys Energy Center LLC, Parkway Generation Essex, LLC, Chief Keystone Power II, LLC, Chief Conemaugh Power II, LLC, Walleye Power, LLC, Clean Energy Future-Lordstown, LLC, Waymart Wind Farm, L.P., Somerset Windpower, LLC, Mill Run Windpower, LLC, Meyersdale Windpower LLC, New Covert Generating Company, LLC, Backbone Mountain Windpower, LLC.

Description: Notice of Change in Status of Backbone Mountain Windpower, LLC, et al.

Filed Date: 10/31/24.

Accession Number: 20241031-5380.

Comment Date: 5 p.m. ET 11/21/24.

Docket Numbers: ER10-2354-017.

Applicants: Midway-Sunset Cogeneration Company.

Description: Notice of Non-Material Change in Status of Midway-Sunset Cogeneration Company.

Filed Date: 10/31/24.

Accession Number: 20241031-5383.

Comment Date: 5 p.m. ET 11/21/24.

Docket Numbers: ER10-3181-006; ER17-991-010; ER17-2011-003; ER24-2589-002; ER24-2590-002.

Applicants: Castleton Commodities Energy Trading LLC, Castleton Commodities Energy Services LLC, Castleton Commodities Merchant Trading L.P., Hunlock Energy, LLC,UGI Development Company.

Description: Notice of Non-Material Change in Status of Hunlock Creek Generating LLC, et al.

Filed Date: 10/31/24.

Accession Number: 20241031-5385.

Comment Date: 5 p.m. ET 11/21/24.

Docket Numbers: ER17-105-009; ER23-2469-002; ER14-490-001; ER11-3959-010; ER12-726-010; ER12-2639-012; ER15-1019-010; ER17-104-009; ER17-556-007; ER18-2158-004; ER21-2330-002; ER21-2331-002; ER21-2333-002; ER21-2336-002; ER22-2703-005.

Applicants: Pattern Energy Management Services LLC, Tecolote Wind LLC, Red Cloud Wind LLC, Duran Mesa LLC, Clines Corners Wind Farm LLC, Stillwater Wind, LLC, Grady Wind Energy Center, LLC, Broadview Energy KW, LLC, Fowler Ridge IV Wind Farm LLC, Ocotillo Express LLC, Spring Valley Wind LLC, Post Rock Wind Power Project, LLC, Hatchet Ridge Wind, LLC, Lost Creek Wind, LLC, Broadview Energy JN, LLC.

Description: Notice of Change in Status of Broadview Energy JN, LLC, et al.

Filed Date: 10/31/24.

Accession Number: 20241031-5379.

Comment Date: 5 p.m. ET 11/21/24.

Docket Numbers: ER17-1370-013; ER16-581-014; ER16-2271-013; ER20-2506-003; ER21-1254-007; ER21-2204- 007; ER22-1927-003; ER22-1928-003; ER22-1929-003; ER22-1945-003; ER23-2712-001; ER23-2773-001; ER24-2302-001.

Applicants: Twin Lakes Solar LLC, River Ferry Solar I LLC, North Bend Wind Project, LLC, Bracewell LLP, Powells Creek Farm Solar, LLC, Bracewell LLP,ENGIE Solidago Solar LLC, Bracewell LLP, Salt City Solar LLC, Bracewell LLP, Sunnybrook Farm Solar, LLC, ENGIE Power & Gas LLC, Genbright LLC, Dakota Range III, LLC,ENGIE Resources LLC ,ENGIE Portfolio Management, LLC, ENGIE Energy Marketing NA, Inc.

Description: Notice of Change in Status of ENGIE Energy Marketing NA, Inc., et al.

Filed Date: 10/31/24.

Accession Number: 20241031-5384.

Comment Date: 5 p.m. ET 11/21/24.

Docket Numbers: ER20-1298-008.

Applicants: Midcontinent Independent System Operator, Inc.

Description: Compliance filing: 2024-11-04_MISO TO's Order 864 Deficiency Response to be effective 1/27/2020.

Filed Date: 11/4/24.

Accession Number: 20241104-5101.

Comment Date: 5 p.m. ET 11/25/24.

Docket Numbers: ER20-1996-006; ER15-1065-003; ER15-1676-003; ER16-1990-006; ER19-2460-001; ER21-1187-005; ER21-1188-005; ER21-1217-005; ER21-1218-005; ER21-1370-006; ER21-1916-004; ER21-1961-004; ER24-482-002; ER24-847-002; ER24-2657-001; ER24-2986-002.

Applicants: Long Lake Solar, LLC, Blue Bird Solar, LLC ,Sunlight Road Solar, L.L.C., River Fork Solar, LLC, Big River Solar, LLC, Assembly Solar III, LLC, Assembly Solar II, LLC, St. James Solar, LLC, Iris Solar, LLC, Prairie State Solar, LLC, Dressor Plains Solar, LLC, DWW Solar II, LLC, North Star Solar PV LLC, Balko Wind Transmission, LLC, Balko Wind, LLC, Assembly Solar I, LLC.

Description: Notice of Change in Status of Assembly Solar I, LLC, et al.

Filed Date: 10/31/24.

Accession Number: 20241031-5382.

Comment Date: 5 p.m. ET 11/21/24.

Docket Numbers: ER23-113-001; ER19-115-003; ER23-2899-001; ER24-619-002; ER24-773-001; ER24-2220-002.

Applicants: FL Solar 7, LLC, Escalante Solar, LLC, MS Solar 5, LLC, MS Solar 6, LLC, FL Solar 5, LLC, AL Solar D, LLC.

Description: Notice of Change in Status of AL Solar D, LLC, et al.

Filed Date: 10/31/24.

Accession Number: 20241031-5387.

Comment Date: 5 p.m. ET 11/21/24.

Docket Numbers: ER24-1271-002; ER10-1330-013; ER10-1427-013; ER10-2917-029; ER10-2922-029; ER11-2383-025; ER11-3376-010; ER11-3377-011; ER11-3378-011; ER12-161-031; ER12-2313-011; ER14-1964-021; ER16-141-010; ER16-287-015; ER16-355-008; ER17-482-015; ER19-529-019; ER19-1074-019; ER19-1075-019; ER20-1447-011; ER20-2028-006; ER22-192-011; ER22-1010-010; ER22-1019-003; ER23-2363-005; ER23-2481-004; ER24-443-005; ER24-444-004; ER24-957-002; ER24-1272-002; ER24-1449-002.

Applicants: Goose Prairie Solar LLC, Foxglove Solar Project, LLC, Franklin Solar LLC, Deriva Energy Beckjord Storage LLC, Deriva Energy Services, LLC, Crystal Hill Solar, LLC, HXOap Solar One, LLC, Powell River Energy Inc., Terraform IWG Acquisition Holdings II, LLC, Evolugen Trading and Marketing LP, Bitter Ridge Wind Farm, LLC, Brookfield Energy Marketing US LLC, Brookfield Renewable Energy Marketing US LLC, Brookfield Energy Marketing Inc., Brookfield Renewable Trading and Marketing LP,BREG Aggregator LLC, Colonial Eagle Solar, LLC,BIF III Holtwood LLC, Conetoe II Solar, LLC,LSP Safe Harbor Holdings, LLC, Laurel Hill Wind Energy, LLC, Bishop Hill Energy LLC, South Hurlburt Wind, LLC, Horseshoe Bend Wind, LLC, North Hurlburt Wind, LLC, Safe Harbor Water Power Corporation, Hawks Nest Hydro LLC, Brookfield Power Piney & Deep Creek LLC, Brookfield Energy Marketing LP, North Allegheny Wind, LLC, Alton Post Office Solar, LLC.

Description: Notice of Non-Material Change in Status of Alton Post Office Solar, LLC, et al.

Filed Date: 10/31/24.

Accession Number: 20241031-5381.

Comment Date: 5 p.m. ET 11/21/24.

Docket Numbers: ER24-2249-001; ER24-2250-001; ER24-2251-001.

Applicants: Aron Energy Prepay 43 LLC, Aron Energy Prepay 42 LLC, Aron Energy Prepay 41 LLC.

Description: Notice of Non-Material Change in Status of Aron Energy Prepay 41 LLC, et al.

Filed Date: 10/31/24.

Accession Number: 20241031-5386.

Comment Date: 5 p.m. ET 11/21/24.

Docket Numbers: ER25-320-000.

Applicants: American Electric Power Service Corporation, PJM Interconnection, L.L.C.

Description: § 205(d) Rate Filing: American Electric Power Service Corporation submits tariff filing per 35.13(a)(2)(iii: AEP submits one amended Facilities Agreement re: ILDSA, SA No. 1336 to be effective 1/1/2025.

Filed Date: 11/1/24.

Accession Number: 20241101-5044.

Comment Date: 5 p.m. ET 11/22/24.

Docket Numbers: ER25-344-000.

Applicants: California Independent System Operator Corporation.

Description: § 205(d) Rate Filing: 2024-11-01 Certificate of Concurrence—LGIA—SunZia Wind South to be effective 12/31/9998.

Filed Date: 11/1/24.

Accession Number: 20241101-5224.

Comment Date: 5 p.m. ET 11/22/24.

Docket Numbers: ER25-345-000.

Applicants: California Independent System Operator Corporation.

Description: § 205(d) Rate Filing: 2024-11-01 Certificate of Concurrence—LGIA—SunZia Wind North to be effective 12/31/9998.

Filed Date: 11/1/24.

Accession Number: 20241101-5228.

Comment Date: 5 p.m. ET 11/22/24.

Docket Numbers: ER25-346-000.

Applicants: Public Service Company of Colorado.

Description: § 205(d) Rate Filing: 2024-11-01-Att O-SPS Formula Rates—Order 898 to be effective 1/1/2025.

Filed Date: 11/1/24.

Accession Number: 20241101-5235.

Comment Date: 5 p.m. ET 11/22/24.

Docket Numbers: ER25-347-000.

Applicants: ISO New England Inc., The Narragansett Electric Company.

Description: § 205(d) Rate Filing: ISO New England Inc. submits tariff filing per 35.13(a)(2)(iii: Rhode Island Energy Amendment of Schedul21-RIE to be effective 1/1/2025.

Filed Date: 11/1/24.

Accession Number: 20241101-5254.

Comment Date: 5 p.m. ET 11/22/24.

Docket Numbers: ER25-348-000.

Applicants: Public Service Company of Colorado.

Description: § 205(d) Rate Filing: 2024 FERC Order 898 to be effective 1/1/2025.

Filed Date: 11/1/24.

Accession Number: 20241101-5267.

Comment Date: 5 p.m. ET 11/22/24.

Docket Numbers: ER25-350-000.

Applicants: Southwest Power Pool, Inc.

Description: § 205(d) Rate Filing: 4089R1 Sholes Wind II GIA to be effective 10/18/2024.

Filed Date: 11/4/24.

Accession Number: 20241104-5029.

Comment Date: 5 p.m. ET 11/25/24.

Docket Numbers: ER25-351-000.

Applicants: PJM Interconnection, L.L.C.

Description: § 205(d) Rate Filing: Original GIA Service Agreement No. 7391; AF2-082 to be effective 10/6/2024.

Filed Date: 11/4/24.

Accession Number: 20241104-5038.

Comment Date: 5 p.m. ET 11/25/24.

Docket Numbers: ER25-352-000.

Applicants: Southwest Power Pool, Inc.

Description: § 205(d) Rate Filing: 3954R1 Huckleberry Solar GIA to be effective 10/22/2024.

Filed Date: 11/4/24.

Accession Number: 20241104-5042.

Comment Date: 5 p.m. ET 11/25/24.

Docket Numbers: ER25-353-000.

Applicants: Midcontinent Independent System Operator, Inc., American Transmission Company LLC.

Description: § 205(d) Rate Filing: Midcontinent Independent System Operator, Inc. submits tariff filing per 35.13(a)(2)(iii: 2024-11-04_SA 4382 ATC-Microsoft PAA to be effective 11/5/2024.

Filed Date: 11/4/24.

Accession Number: 20241104-5065.

Comment Date: 5 p.m. ET 11/25/24.

Docket Numbers: ER25-354-000.

Applicants: Midcontinent Independent System Operator, Inc., American Transmission Company LLC.

Description: § 205(d) Rate Filing: Midcontinent Independent System Operator, Inc. submits tariff filing per 35.13(a)(2)(iii: 2024-11-04_SA 4278 ATC-WEPCo 1st Rev E&P to be effective 1/4/2025.

Filed Date: 11/4/24.

Accession Number: 20241104-5082.

Comment Date: 5 p.m. ET 11/25/24.

Docket Numbers: ER25-355-000.

Applicants: Midcontinent Independent System Operator, Inc.

Description: § 205(d) Rate Filing: 2024-11-04_SA 4083 Duke Energy-Emerald Green 2nd Rev GIA (J1481) to be effective 10/23/2024.

Filed Date: 11/4/24.

Accession Number: 20241104-5084.

Comment Date: 5 p.m. ET 11/25/24.

Take notice that the Commission received the following qualifying facility filings:

Docket Numbers: QF25-90-000.

Applicants: Generate EMC Fuel Cells, LLC.

Description: Form 556 of Generate EMC Fuel Cells, LLC.

Filed Date: 11/1/24.

Accession Number: 20241101-5280.

Comment Date: 5 p.m. ET 11/22/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 4, 2024.
Carlos D. Clay,
Acting Deputy Secretary.

[FR Doc. 2024-25991 Filed 11-7-24; 8:45 am]

BILLING CODE 6717-01-P